DEPARTMENT OF HEALTH AND HUMAN SERVICES

Centers for Disease Control and Prevention

[Program Announcement 02005]

Sexually Transmitted Disease Faculty Expansion Program; Notice of Availability of Funds; Amendment

A notice announcing the availability of fiscal year (FY) 2002 funds for a cooperative agreement program for a Sexually Transmitted Disease (STD) Faculty Expansion Program (FEP)was published in the Federal Register on August 23, 2001, [Vol. 66, No. 164, Pages 44351-44354]. The notice is amended as follows:

(1) On page 44351, third column, at the beginning of sixth paragraph, under Section C. Availability of Funds, insert a sentence, “Applicants may incur pre-award costs up to 90 days prior to the award, however, all pre-award costs are incurred at the applicants' risk.” before the paragraph beginning “CDC is * * * the Use of Funds section.”

(2) On page 44352 and third column, the section title “E. Application Content” should be replaced with “E. Content” and a word, “Application” should be inserted as a subtitle above the beginning of the last paragraph, “The narrative should be * * * in the order presented below:”

Dated: August 31, 2001.
John L. Williams,
Director, Procurement and Grants Office, Centers for Disease Control and Prevention (CDC).

[FR Doc. 01-22503 Filed 9-6-01; 8:45 am]

BILLING CODE 4163-18-P